NUCLEAR REGULATORY COMMISSION

[Docket No. 50-266 and 50-301]

Nuclear Management Company, LLC; Notice of Withdrawal of Application for Amendment to Facility Operating License

The U.S. Nuclear Regulatory Commission (the Commission) has granted the request of the Nuclear Management Corporation, LLC (the licensee), to withdraw its February 28, 2002, application for proposed amendment to Facility Operating License No. No. DPR-24 and DPR-27 for the Point Beach Nuclear Plant, Units 1 and 2, located in Manitowoc County, Wisconsin.

The proposed change would have modified Technical Specification (TS) 1.1, “Definitions,” “CREFS Actuation Instrumentation,” TS 3.4.16, “RCS Specific Activity,” TS 3.7.9, “CREFS,” and TS 3.7.13, “Secondary Specific Activity.” The proposed changed would have also deleted TS 3.9.3, “Containment Penetrations.” The accident source term used in the selection of the design-basis offsite and control room dose analysis would have been replaced by the implementation of an alternative source term.

The Commission had previously issued a notice of consideration of issuance of amendment published in the Federal Register on April 15, 2002 (67 FR 18646). However, by letter dated January 24, 2003, the licensee withdrew the proposed change.

For further details with respect to this action, see the application for amendment dated February 28, 2002, and the licensee's letter dated January 24, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated in Rockville, Maryland, this 24th day of February, 2003.
For the Nuclear Regulatory Commission.
Deirdre W. Spaulding,
Project Manager, Section 1, Project Directorate III, Division of Licensing Project Management, Office of Nuclear Reactor Regulation.

[FR Doc. 03-5351 Filed 3-6-03; 8:45 am]

BILLING CODE 7590-01-P